ADVISORY COMMISSION ON ELECTRONIC COMMERCE

Meeting Cancellation

The Advisory Commission on Electronic Commerce was established by Public Law 105-277 to conduct a thorough study of federal, state, local and international taxation and tariff treatment of transactions using the Internet and Internet access and other comparable intrastate, interstate or international sales activities. The Commission is to report its findings and recommendations to Congress no later than April 21, 2000. Notice is hereby given, that the Advisory Commission on Electronic Commerce has cancelled a telephone conference call meeting, which was scheduled for Monday, April 10, 2000, and noticed in the Federal Register on Monday, March 27, 2000, at 65 FR 16163.

Information about the activities of the Commission can be found at the Commission's Web site located at: www.ecommercecommission.org.

A listing of the members of the Commission and details concerning their appointment were published in the Federal Register on June 9, 1999, at 64 FR 30958.

Heather Rosenker,
Executive Director.

[FR Doc. 00-8510 Filed 4-5-00; 8:45 am]

BILLING CODE 0000-00-P